DEPARTMENT OF COMMERCE

National Oceanic and Atmospheric Administration

[I.D. 100102B]

Stock Assessment of Large Coastal Sharks in the U.S. Atlantic and Gulf of Mexico

AGENCY: National Marine Fisheries Service (NMFS), National Oceanic and Atmospheric Administration (NOAA), Commerce.

ACTION: Notice of availability.

SUMMARY: NMFS announces the availability of a stock assessment report on large coastal sharks (LCS) in the Atlantic and Gulf of Mexico, prepared by the NMFS Southeast Fisheries Science Center, and a final meeting report of the shark evaluation workshop held in Panama City, FL, June 24 through June 28, 2002.

ADDRESSES: Written requests for copies of these reports should be sent to Karyl Brewster-Geisz, Highly Migratory Species Management Division (F/SF1), National Marine Fisheries Service (NMFS), 1315 East-West Highway, Silver Spring, MD 20910, or may be sent via facsimile (fax) to 301-713-1917.

FOR FURTHER INFORMATION CONTACT: Karyl Brewster-Geisz, (301) 713-2347; fax (301) 713-1917.

SUPPLEMENTARY INFORMATION: Numerous species of LCS are caught in directed and incidental fisheries by commercial and recreational fishermen along the U.S. Atlantic and Gulf of Mexico coasts. The species in this management group presently include, but are not limited to, sandbar, blacktip, silky, tiger, spinner, and bull sharks. The previous stock assessment of LCS was conducted in 1998 and classified this group as being overfished. A substantial amount of information has become available since then, including four more years of catch estimates, new biological data, and extended fishery-independent and fishery-dependent catch rate series. The final meeting report summarizes discussions of the available data, how the data should be used, and the types of models and sensitivity tests that should conducted. The stock assessment report uses this information to estimate the status of LCS and to project their future abundance under a variety of future catch levels in waters off the U.S. Atlantic and Gulf of Mexico coasts.

Authority: 16 U.S.C. 971 et seq. and 1801 et seq.

Dated: October 9, 2002.
John H. Dunnigan,
Director, Office of Sustainable Fisheries, National Marine Fisheries Service.

[FR Doc. 02-26428 Filed 10-16-02; 8:45 am]

BILLING CODE 3510-22-S